DEPARTMENT OF HOUSING AND URBAN DEVELOPMENT

[Docket No. FR-5858-N-02]

Housing Counseling Federal Advisory Committee; Charter Reestablishment

AGENCY: Office of the Assistant Secretary for Housing—Federal Housing Commissioner, HUD.

ACTION: Notice of Charter Reestablishment for Housing Counseling Federal Advisory Committee.

SUMMARY: The Department of Housing and Urban Development announces the charter renewal of the Housing Counseling Federal Advisory Committee, a federal advisory committee established pursuant to the Dodd-Frank Wall Street Reform and Consumer Protection Act and the Federal Advisory Committee Act. This charter renewal will take effect on May 1, 2016, and will expire after 2 years.

FOR FURTHER INFORMATION CONTACT: Marjorie George, Housing Program Technical Specialist, Office of Housing Counseling, U.S. Department of Housing and Urban Development, 200 Jefferson Avenue, Suite 300, Memphis, TN 38103; telephone number 1-901-544-4228 (this is not a toll-free number); email marjorie.a.george@hud.gov. For hearing and speech-impaired persons, this number may be accessed via TTY by calling the Federal Relay Service at 1-800-877-8339.

SUPPLEMENTARY INFORMATION:

Background and Authority

Pursuant to Section 10(a)(2) of the Federal Advisory Committee Act (Pub. L. 92-463), HUD is giving notice to reestablish the charter for the Housing Counseling Federal Advisory Committee (HCFAC). The HCFAC was established to advise HUD's Office of Housing Counseling (OHC) to meet its mission to provide individuals and families with the knowledge they need to obtain, sustain, and improve their housing through a strong national network of HUD-approved housing counseling agencies and HUD-certified counselors. The HCFAC, however, shall have no role in reviewing or awarding of OHC housing counseling grants and procurement contracts. See the HCFAC Web site for details at https://www.hudexchange.info/programs/housing-counseling/federal-advisory-committee/.

Dated: April 12, 2016.
Edward L. Golding,
Principal Deputy Assistant Secretary for Housing.

[FR Doc. 2016-08866 Filed 4-15-16; 8:45 am]

BILLING CODE 4210-67-P